DEPARTMENT OF HEALTH AND HUMAN SERVICES

Administration for Children and Families

Proposed Information Collection Activity; State Personal Responsibility Education Program (PREP) (Office of Management and Budget #0970-0380)

AGENCY: Family and Youth Services Bureau, Administration for Children and Families, Department of Health and Human Services.

ACTION: Request for public comments.

SUMMARY: The Family and Youth Services Bureau (FYSB) within the Administration on Children, Youth and Families (ACYF) is requesting a 3-year extension of the State Personal Responsibility Program (PREP) state plans and performance progress report (OMB #0970-0380, expiration 12/31/2023). There are no changes requested to the state plan, but there are changes requested to the performance progress report. Changes include the addition of information related to equity activities and strategies to mitigate challenges.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The State PREP has mandatory, formula allotments for state and territories to apply. The process is for states and territories to submit and for ACYF/FYSB to collect their state plans and semi-annual performance progress reports.

Purpose and Use of the Information Collection:

The state plan offers information about the proposed state project and has been and will continue to be used as the primary basis to determine whether or not the project meets the minimum requirements of the legislation for the grant award. There are no changes proposed to the state plan; FYSB is requesting to use these plans for another 3 years.

The Performance Progress Reports are collected semi-annually and inform the monitoring of the grantees' program design, program evaluation, management improvement, service quality, and compliance with agreed upon goals. ACYF/FYSB has and will continue to use the information to ensure effective service delivery for program participants. Finally, the data from this collection will be used to report outcomes and efficiencies and will provide valuable information to policy makers and key stakeholders in the development of program and research efforts. Changes are proposed to the Performance Progress Reports and include the addition of information related to equity activities and strategies to mitigate challenges.

Respondents: All 52 states and territories that are still eligible to accept their State PREP mandatory, formula allotments for funding.

Annual Burden Estimates
Instrument | Total number of respondents | Annual number of responses per respondent | Average burden hours per response | Annual burden hours
State Plans | 52 | 1 | 40 | 2,080
Performance Progress Reports | 52 | 2 | 30 | 3,120

Estimated Total Annual Burden Hours: 5,200.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 513 of the Social Security Act (42 U.S.C. 713), as amended by section 50503 of the Bipartisan Budget Act of 2018 (Pub. L. 115-123) extended by Division CC, Title III, Section 302 of the Consolidated Appropriations Act, 2021 (Pub. L. 116-260).

Mary B. Jones,
ACF/OPRE Certifying Officer.

[FR Doc. 2023-26658 Filed 12-4-23; 8:45 am]

BILLING CODE 4184-37-P